DEPARTMENT OF AGRICULTURE

Agricultural Marketing Service

7 CFR Part 1230

[No. LS-00-12]

Pork Promotion, Research, and Consumer Information Program: Procedures for the Conduct of Referendum

AGENCY: Agricultural Marketing Service, USDA.

ACTION: Clarification of final rule.

SUMMARY: The purpose of this action is to clarify the intent of the requirement in the Pork Promotion, Research, and Consumer Information Program: Procedures for the Conduct of Referendum, that the telephone number of a person voting in the pork checkoff referendum be included on the registration and certification form. The person's telephone number was for the administrative convenience of Farm Service Agency (FSA) office personnel in processing these forms. A person's otherwise valid ballot will not be invalidated if the person's phone number is not included on the registration and certification form.

EFFECTIVE DATE: November 28, 2000.

FOR FURTHER INFORMATION CONTACT: Ralph L. Tapp, Chief; Marketing Programs Branch, Room 2627-S; Livestock and Seed Program, AMS, USDA; Stop 0251; 1400 Independence Avenue, SW., Washington, DC 20250-0251; telephone number 202/720-1115, fax 202/720-1125, or by e-mail Ralph.Tapp@usda.gov.

SUPPLEMENTARY INFORMATION: Under the Pork Promotion, Research, and Consumer Information Act of 1985 (7 U.S.C. 4801-4819), a pork referendum was conducted during the period August 18, 2000, through September 21, 2000. The referendum was conducted pursuant to referendum rules published July 13, 2000, [65 FR 43498] Pork Promotion, Research, and Consumer Information Program: Procedures for the Conduct of Referendum: final rule. The referendum was conducted among eligible pork producers who owned and sold one or more hogs or pigs and importers who imported pigs, hogs, pork or pork products to determine whether they favored the continuation of the Pork Promotion, Research, and Consumer Information Order. Producer in-person voting in the referendum was held September 19, 20, 21, 2000, at county FSA offices. Producer absentee ballots were available at those offices from August 18, 2000, through September 18, 2000. Importers could obtain ballots from the FSA headquarters office in Washington, DC, from August 18, 2000, through September 21, 2000. The representative period to establish voter eligibility was the period from August 18, 1999, through August 17, 2000.

Persons who wished to vote in the pork checkoff referendum had to complete and sign a registration and certification form that required the minimum information necessary to establish the identity of the person voting and to permit other interested persons an opportunity to challenge a person's vote. The registration and certification forms—Form LS-72-2, In-Person Registration and Certification (Envelope); Form LS-73, Pork Producer Absentee Voting; and Form LS-76, Pork Importer Mail Voting—required that a person include their name and address, or the name and address of the entity they represented if applicable, and the person's telephone number.

During the conduct of the referendum a question was raised concerning whether a ballot would be invalid if no telephone number was included on the registration and certification form. The telephone number was for the FSA county offices' administrative convenience to contact the voter in the event that such contact became necessary. The Agricultural Marketing Service never intended to invalidate an otherwise complete ballot simply because there was no phone number.

Authority: 7 U.S.C. 4801-4819.

Dated: November 22, 2000.
Kenneth C. Clayton,
Acting Administrator, Agricultural Marketing Service.

[FR Doc. 00-30333 Filed 11-24-00; 9:42 am]

BILLING CODE 3410-02-P